DEPARTMENT OF HEALTH AND HUMAN SERVICES

Centers for Disease Control and Prevention

[30Day-80-03]

Proposed Data Collections Submitted for Public Comment and Recommendations

The Centers for Disease Control and Prevention (CDC) publishes a list of information collection requests under review by the Office of Management and Budget (OMB) in compliance with the Paperwork Reduction Act (44 U.S.C. Chapter 35). To request a copy of these requests, call the CDC Reports Clearance Officer at (404) 498-1210. Send written comments to CDC, Desk Officer, Human Resources and Housing Branch, New Executive Office Building, Room 10235, Washington, DC 20503 or by fax to (202) 395-6974. Written comments should be received within 30 days of this notice.

Proposed Project: Evaluating the Effectiveness of the Asthma Intervention Program, Power Breathing—New—National Center for Environmental Health (NCEH), Centers for Disease Control and Prevention (CDC).

The Centers for Disease Control and Prevention (CDC) seeks to conduct an evaluation of the effectiveness of the asthma intervention program, Power Breathing, in two school districts in Kansas City, KS and Fredericksburg, VA. The overall aim of this program, developed by the Asthma and Allergy Foundation of America, is to provide adolescents with a basic understanding of asthma and its management in a peer-friendly environment and to empower them to take control of their asthma on a personal level.

The proposed data collection for the evaluation will provide feedback to CDC about the usefulness and cost-effectiveness of this teen asthma intervention program. Sample participants will come from students, parents, program facilitators, and school personnel (school nurses and teachers) in the selected two school districts. Self-administered questionnaires will be given to students at baseline (pre-intervention program), immediately post-program, and at six-months post-program, while parents receive baseline and six-months post-program surveys. The student survey will focus on: knowledge, attitudes, and behaviors regarding their asthma; perception of their health status and quality of life; assessment of the program; and impact of the program on their asthma management skills. Parents will be asked about their child's asthma condition, assessment of the program, and cost-related issues for their child's asthma.

Individual, one-time interviews will be conducted with program facilitators and school personnel regarding their perceptions of the intervention program and its impact on the students. Two focus groups will be conducted with students post-program to obtain additional, in-depth information about their perceptions of the program. The annualized burden is estimated to be 1029 hours.

Respondents | Number of respondents | Number of responses/respondent | Average burden/response (in hrs.)
Students:
Baseline | 524 | 1 | 30/60
Post-program | 524 | 1 | 15/60
6-month follow-up | 524 | 1 | 30/60
Focus group | 16 | 1 | 1
Parents:
Baseline | 524 | 1 | 10/60
6-month follow-up | 524 | 1 | 15/60
Program facilitators:
Interview | 6 | 1 | 40/60
Program sessions | 6 | 12 | 30/60
School nurses:
School profile | 6 | 1 | 10/60
Record abstraction | 6 | 87 | 10/60
Interview | 6 | 1 | 40/60
Teachers:
Interview | 12 | 1 | 40/60

Dated: September 25, 2003.
Nancy E Cheal,
Acting Associate Director for Policy, Planning and Evaluation, Centers for Disease Control and Prevention.

[FR Doc. 03-24972 Filed 10-1-03; 8:45 am]

BILLING CODE 4163-18-P